DEPARTMENT OF THE INTERIOR

Minerals Management Service

[Docket No. MMS-2008-OMM-0028]

MMS Information Collection Activity: 1010-0072, Prospecting for Minerals Other Than Oil, Gas, and Sulphur; Submitted for Office of Management and Budget (OMB) Review; Comment Request

AGENCY: Minerals Management Service (MMS), Interior.

ACTION: Notice of extension of an information collection (1010-0072).

SUMMARY: To comply with the Paperwork Reduction Act of 1995 (PRA), we are notifying the public that we have submitted to OMB an information collection request (ICR) to renew approval of the paperwork requirements in the regulations under 30 CFR 280, “Prospecting for Minerals other than Oil, Gas, and Sulphur on the Outer Continental Shelf,” and related documents. This notice also provides the public a second opportunity to comment on the paperwork burden of these regulatory requirements.

DATES: Submit written comments by January 7, 2009.

ADDRESSES: You should submit comments directly to the Office of Information and Regulatory Affairs, OMB, Attention: Desk Officer for the Department of the Interior (1010-0072), either by fax (202) 395-6566 or e-mail (OIRA_DOCKET@omb.eop.gov).

Please also send a copy to MMS by either of the following methods:

• http://www.regulations.gov. Under the tab “More Search Options,” click Advanced Docket Search, then select “Minerals Management Service” from the agency drop-down menu, then click “submit.” In the Docket ID column, select MMS-2008-OMM-0028 to submit public comments and to view supporting and related materials available for this rulemaking. Information on using Regulations.gov, including instructions for accessing documents, submitting comments, and viewing the docket after the close of the comment period, is available through the site's “User Tips” link. Submit comments to regulations.gov by January 7, 2009. The MMS will post all comments.

• Mail or hand-carry comments to the Department of the Interior; Minerals Management Service; Attention: Cheryl Blundon; 381 Elden Street, MS-4024; Herndon, Virginia 20170-4817. Please reference “Information Collection 1010-0072” in your subject line and mark your message for return receipt. Include your name and return address in your message text.

FOR FURTHER INFORMATION CONTACT: Cheryl Blundon, Regulations and Standards Branch, (703) 787-1607. You may also contact Cheryl Blundon to obtain a copy, at no cost, of the regulations and form that requires the subject collection of information.

SUPPLEMENTARY INFORMATION:

Title: 30 CFR 280, Prospecting for Minerals other than Oil, Gas, and Sulphur on the Outer Continental Shelf.

Form: MMS-134.

OMB Control Number: 1010-0072.

Abstract: The Outer Continental Shelf (OCS) Lands Act, as amended (43 U.S.C. 1331 et seq. and 43 U.S.C. 1801 et seq.), authorizes the Secretary of the Interior (Secretary) to prescribe rules and regulations to administer leasing of the OCS. Section 1337(k) of the OCS Lands Act authorizes the Secretary “* * * to grant to the qualified persons offering the highest cash bonuses on a basis of competitive bidding leases of any mineral other than oil, gas, and sulphur in any area of the outer Continental Shelf not then under lease for such mineral upon such royalty, rental, and other terms and conditions as the Secretary may prescribe at the time of offering the area for lease.” An amendment to the OCS Lands Act (Pub. L. 103-426) authorizes the Secretary to negotiate agreements (in lieu of the previously required competitive bidding process) for the use of OCS sand, gravel, and shell resources for certain specified types of public uses. The specified uses will support construction of governmental projects for beach nourishment, shore protection, and wetlands enhancement; or any project authorized by the Federal Government.

Section 1340 states that “* * * any person authorized by the Secretary may conduct geological and geophysical explorations in the [O]uter Continental Shelf, which do not interfere with or endanger actual operations under any lease maintained or granted pursuant to this Act, and which are not unduly harmful to aquatic life in such area.” The section further requires that permits to conduct such activities may only be issued if it is determined that: The applicant is qualified; the activities are not polluting, hazardous, or unsafe; they do not interfere with other users of the area; and do not disturb a site, structure, or object of historical or archaeological significance.

Section 1352 further requires that certain costs be reimbursed to the parties submitting required G&G information and data. Under the Act, permittees are to be reimbursed for the costs of reproducing any G&G data required to be submitted. Permittees are to be reimbursed also for the reasonable cost of processing geophysical information required to be submitted when processing is in a form or manner required by the Director and is not used in the normal conduct of the business of the permittee.

Responses are mandatory or required to obtain or retain a benefit. No questions of a sensitive nature are asked. The MMS protects information considered proprietary according to 30 CFR 280.70, applicable sections of 30 CFR parts 250 and 252, and the Freedom of Information Act (5 U.S.C. 552) and its implementing regulations (43 CFR 2). The MMS uses the information: (1) To ensure there is no environmental degradation, personal harm or unsafe operations and conditions; (2) the activities do not damage historical or archaeological sites or interfere with other uses; (3) to analyze and evaluate preliminary or planned drilling activities; (4) to monitor progress and activities in the OCS; (5) to acquire G&G data and information collected under a Federal permit offshore; and (6) to determine eligibility for reimbursement from the Government for certain costs. Respondents are required to submit form MMS-134 to provide the information necessary to evaluate their qualifications. The information is necessary for MMS to determine if the applicants for permits or filers of notices meet the qualifications specified by the Act. The MMS uses the information collected to understand the G&G characteristics of hard mineral-bearing physiographic regions of the OCS. It aids MMS in obtaining a proper balance among the potentials for environmental damage, the discovery of hard minerals, and adverse impacts on affected coastal States. Information from permittees is necessary to determine the propriety and amount of reimbursement.

Frequency: On occasion, annual; and as required in the permit.

Estimated Number and Description of Respondents: Approximately 3 permittees/respondents.

Estimated Reporting and Recordkeeping Hour Burden: The estimated annual hour burden for this information collection is a total of 116 hours. The following chart details the individual components and estimated hour burdens. In calculating the burdens, we assumed that respondents perform certain requirements in the normal course of their activities. We consider these to be usual and customary and took that into account in estimating the burden.

Citation 30 CFR part 280 | Reporting and recordkeeping requirements | Non-hour cost burden: Hour burden | Non-hour cost burden: Average number of annual responses | Non-hour cost burden: Annual burden hours
10; 11(a); 12; 13; Permit Form | Apply for permit (Form MMS-134) to conduct prospecting or G&G scientific research activities, including prospecting/scientific research plan and environmental assessment or required drilling plan | 8 | 3 permits | 24
| $2,012 permit application fee × 3 permits = $6,036
11(b); 12(c) | File notice to conduct scientific research activities related to hard minerals, including notice to MMS prior to beginning and after concluding activities | 8 | 3 notices | 24
21(a) | Report to MMS if hydrocarbon/other mineral occurrences or environmental hazards are detected or adverse effects occur | 1 | 1 report | 1
22 | Request approval to modify operations | 1 | 1 request | 1
23(b) | Request reimbursement for expenses for MMS inspection | 1 | 3 requests | 3
24 | Submit status and final reports on specified schedule | 8 | 4 reports | 32
28 | Request relinquishment of permit | 1 | *1 relinquishment | *1
31(b); 73 | Governor(s) of adjacent State(s) submissions to MMS: Comments on activities involving an environmental assessment; request for proprietary data, information, and samples; and disclosure agreement | 1 | 3 submissions. | 3
33, 34 | Appeal penalty, order, or decision—burden covered under 5 CFR 1320.4(a)(2), (c) |  |  | 0
40; 41; 50; 51; Permit Form | Notify MMS and submit G&G data/information collected under a permit and/or processed by permittees or 3rd parties, including reports, logs or charts, results, analyses, descriptions, etc | 4 | 3 submissions | 12
42(b); 52(b) | Advise 3rd party recipient of obligations. Part of licensing agreement between parties; no submission to MMS | 1/3 | 3 notices | 1
42(c), 42(d); 52(c), 52(d) | Notify MMS of 3rd party transactions | 1 | 1 notice | 1
60; 61(a) | Request reimbursement for costs of reproducing data/information & certain processing costs | 1 | *1 request | *1
72(b) | Submit in not less than 5 days comments on MMS intent to disclose data/information | 1 | 3 responses | 3
72(d) | Contractor submits written commitment not to sell, trade, license, or disclose data/information | 1 | 3 submissions | 3
Part 280 | General departure and alternative compliance requests not specifically covered elsewhere in part 280 regulations | 2 | 1 request | 2
Permits** | Request extension of permit time period | 1 | 1 extension | 1
Permits** | Retain G&G data/information for 10 years and make available to MMS upon request | 1 | 3 respondents | 3
| 38 responses | 116
Total Burden | (1) $6,036 Non-Hour Cost Burdens.
* NOTE: No requests received for many years. Minimal burden for regulatory (PRA) purposes only.
** These permits are prepared by MMS and sent to respondents; therefore, the forms themselves do not incur burden hours.

Estimated Reporting and Recordkeeping “Non-Hour Cost” Burden: We have identified one non-hour cost burden for this collection. When respondents submit an application for permit (Form MMS-134, Application for Permit to Conduct Geological or Geophysical Prospecting) to conduct prospecting or G&G scientific research activities, they submit a $2,012 fee. Refer to the chart to see these specific fee breakdowns. We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq. ) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on June 9, 2008, we published a Federal Register notice (73 FR 32595) announcing that we would submit this ICR to OMB for approval. The notice provided the required 60-day comment period. In addition, § 280.80 provides the OMB control number for the information collection requirements imposed by the 30 CFR 280 regulations and form. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by January 7, 2009.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: October 6, 2008.
E.P. Danenberger,
Chief, Office of Offshore Regulatory Programs.

[FR Doc. E8-29032 Filed 12-5-08; 8:45 am]

BILLING CODE 4310-MR-P